DEPARTMENT OF TRANSPORTATION

Office of the Secretary

Aviation Proceedings, Agreements Filed Between December 15, 2003 and January 9, 2004

The following Agreements were filed with the Department of Transportation under the provisions of 49 U.S.C. 412 and 414. Answers may be filed within 21 days after the filing of the application.

Agreements filed during the week ending December 19, 2003:

Docket Number: OST-2003-16721.

Date Filed: December 15, 2003.

Parties: Members of the International Air Transport Association.

Subject:

PTC23 EUR-SASC 0117 dated December 16, 2003.

Mail Vote 347—Resolution 010h Special Amending Resolution from India to Europe, Intended effective date: January 1, 2004.

Docket Number: OST-2003-16738.

Date Filed: December 16, 2003.

Parties: Members of the International Air Transport Association.

Subject:

PSC/Reso/120 dated December 3, 2003.

Finally Adopted Resolutions & Recommended Practices r1-r30, Minutes—PSC/Mins/005 dated December 3, 2003, Intended effective date: June 1, 2004.

Docket Number: OST-2003-16775.

Date Filed: December 19, 2003.

Parties: Members of the International Air Transport Association.

Subject:

PTC23 EUR-SASC 0116 dated December 12, 2003.

TC23 Europe-South Asian Subcontinent Resolutions r1-r12, Minutes—PTC23 EUR-SASC 0118 dated December 19, 2003, Tables—PTC23 EUR-SASC Fares 0049 dated December 16, 2003, Intended effective date: April 1, 2004.

Agreements filed during the week ending January 9, 2004:

Docket Number: OST-2004-16853.

Date Filed: January 6, 2004.

Parties: Members of the International Air Transport Association.

Subject:

Mail Vote 348, PTC3 0706 dated January 9, 2004.

TC3 Special Passenger Amending Resolution 010i between Japan, Korea and South East Asia r1-r9, Intended effective date: February 1, 2004.

Docket Number: OST-2004-16898.

Date Filed: January 9, 2004.

Parties: Members of the International Air Transport Association.

Subject:

PTC23 EUR-SWP 0082 dated December 12, 2003.

TC23/TC123 Europe-South West Pacific Resolutions r1-r14, Correction—PTC23 EUR-SWP 0083 dated December 23, 2003, Minutes—PTC23 EUR-SWP 0085 dated December 26, 2003, Tables—PTC23 EUR-SWP Fares 0047 dated December 12, 2003, Intended effective date: April 1, 2004.

Andrea M. Jenkins,
Program Manager, Docket Operations, Federal Register Liaison.

[FR Doc. 04-1925 Filed 1-28-04; 8:45 am]

BILLING CODE 4910-62-P